DEPARTMENT OF STATE

[Public Notice: 7506]

Waiver of Restriction on Assistance to the Central Government of Afghanistan

Pursuant to Section 7086(c)(2) of the Department of State, Foreign Operations, and Related Programs Appropriations Act, 2010 (Division F, Pub. L. 111-117) as carried forward under the Department of Defense and Full-Year Continuing Appropriations Act, 2011 (Pub. L. 112-10) (“the Act”), and Department of State Delegation of Authority Number 245-1, I hereby determine that it is important to the national interest of the United States to waive the requirements of Section 7086(c)(1) of the Act with respect to Afghanistan, and I hereby waive such restriction.

This determination shall be reported to the Congress, and published in the Federal Register.

Dated: June 7, 2011.
Thomas R. Nides,
Deputy Secretary of State for Management and Resources.

[FR Doc. 2011-15454 Filed 6-20-11; 8:45 am]

BILLING CODE 4710-46-P